DEPARTMENT OF THE INTERIOR

Bureau of Reclamation

Draft Supplemental EIS/EIR for Acquisition of Additional Water for Meeting the San Joaquin River Agreement Flow Objectives, 2001-2010

AGENCY: Bureau of Reclamation, Interior.

ACTION: Notice of Intent to prepare a joint Draft Supplemental Environmental Impact Statement/Environmental Impact Report (DSEIS/EIR).

SUMMARY: The Bureau of Reclamation (Reclamation) and the San Joaquin River Group Authority (SJRGA) are preparing a joint DSEIS/EIR, pursuant to the National Environmental Policy Act (NEPA) and the California Environmental Quality Act (CEQA), to evaluate the purchase of up to 50,000 acre-feet of water annually during the 2001 through 2010 water years from the SJRGA and its members to meet a 31-day spring pulse flow target in the San Joaquin River at Vernalis. The spring pulse flow target in a given water year is dependent on hydrological conditions and is established by Vernalis Adaptive Management Plan (VAMP) flow objectives within the San Joaquin River Agreement (SJRA). When supplemental flows required to meet the spring pulse flow target exceed 110,000 acre-feet, Reclamation may purchase up to an additional 50,000 acre-feet (i.e., above 110,000 acre-feet) to supplement the spring pulse flows. The additional pulse flows would enter as releases from water purveyors into the Tuolumne and/or Merced Rivers.

DATES: Written comments on the scope of the DSEIS/EIR must be received by September 28, 2000. Comments received after this date will be considered, but may not be included in the resulting DSEIS/EIR scope.

ADDRESSES: Written comments should be sent to Mr. John Burke, Water Acquisition Program Manager (MP410), Bureau of Reclamation, 2800 Cottage Way, Sacramento, CA 95825; fax 916/978-5290.

FOR FURTHER INFORMATION CONTACT: Mr. Burke at the above address or by telephone at: 916/978-5556 (TDD 916/978-5608).

SUPPLEMENTARY INFORMATION: The SJRGA was established to provide a level of protection equivalent to the San Joaquin River flow objectives contained in the State Water Resources Control Board's (SWRCB) 1995 Water Quality Control Plan for the lower San Joaquin River and San Francisco Bay-Delta Estuary (Delta). A key part of the SJRA is the VAMP which is a scientifically based adaptive fishery management plan to help determine the relationships between flows, exports, and other factors on fish survival in this region of the Delta. The SWRCB adopted pertinent provisions of the SJRA on December 29, 1999, and issued its Revised Water Right Decision 1641 (D-1641) containing these provisions on March 15, 2000. D-1641 approved implementation of the VAMP through December 31, 2011.

A joint Final EIS/EIR was prepared in January 1999 by the SJRGA and Reclamation to meet CEQA and NEPA requirements to address environmental impacts associated with acquiring water to meet the flow objectives in the SJRA. This document addressed the need for up to 110,000 acre-feet to meet a 31-day spring pulse flow target in the San Joaquin River at Vernalis. The SJRA allows for willing sellers among the SJRGA to sell Reclamation additional water when the spring pulse flow target exceeds 110,000 acre-feet. The Final EIS/EIR prepared for the SJRA acknowledged the need for this additional water from willing sellers in some water years but did not address the environmental impacts associated with acquiring this supplemental water.

The purpose of the DSEIS/EIR is to update and supplement analyses presented in the 1999 Final EIS/EIR to address the acquisition of up to 50,000 acre-feet of water annually during the 2001 through 2010 water years. The DSEIS/EIR analysis will include a detailed hydrologic analysis and will focus on potential impacts involving the following resources: Surface Water, Ground Water, Vegetation and Wildlife Resources, Fishery Resources, Land Use, Recreation, Energy Resources, and Cultural Resources. Also, the DSEIS/EIR will address the following issues: potential sources of water supply (e.g., carryover storage, ground water, conservation/tailwater recovery), alternative releases on the tributaries (Tuolumne and Merced rivers), effects on exports/water supply, estimated water quality at Vernalis, potential effects on anadromous fish including steelhead, and cumulative impacts.

Dated: August 10, 2000.
Richard G. Kristof,
Acting Regional Resources Manager.

[FR Doc. 00-20772 Filed 8-23-00; 8:45 am]

BILLING CODE 4310-MN-P